DEPARTMENT OF ENERGY

10 CFR Parts 429 and 430

[EERE-2019-BT-STD-0001]

RIN 1904-AE23

Energy Conservation Program: Energy Conservation Standards for Certain External Power Supplies

AGENCY: Office of Energy Efficiency and Renewable Energy, Department of Energy.

ACTION: Final rule; technical amendments.

SUMMARY: The Department of Energy (DOE) is publishing this final rule to amend its current regulations regarding certain aspects related to its energy conservation standards and scope of coverage for external power supplies. The contents of these technical amendments correspond with provisions enacted by Congress through the Power and Security Systems Act and EPS Improvement Act. DOE is also correcting a misprint related to a table detailing certain statutorily-prescribed requirements.

DATES: The effective date of this rule is January 29, 2019.

ADDRESSES: The docket, which includes Federal Register notices and other supporting documents/materials, is available for review at http://www.regulations.gov. All documents in the docket are listed in the http://www.regulations.gov index.

A link to the docket web page can be found at http://www.regulations.gov. The docket web page will contain simple instructions on how to access all documents, including public comments, in the docket.

FOR FURTHER INFORMATION CONTACT: Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Mr. Michael Kido, U.S. Department of Energy, Office of the General Counsel, GC-33, 1000 Independence Avenue SW, Washington, DC 20585-0121. Telephone: (202) 586-8145. Email: michael.kido@hq.doe.gov.

For further information on how to review the docket contact the Appliance and Equipment Standards Program staff at (202) 287-1445 or by email: ApplianceStandardsQuestions@ee.doe.gov.

SUPPLEMENTARY INFORMATION:

Table of Contents

I. Background

II. Summary of This Action

III. Final Action

IV. Impacts

A. Power and Security Systems Act Cost Impacts

B. External Power Supply Improvement Act of 2017 Cost Impacts

V. Procedural Requirements

A. Review Under Executive Order 12866, “Regulatory Planning and Review”

B. Review Under Executive Orders 13771 and 13777

C. Review Under the Regulatory Flexibility Act

D. Review Under the Paperwork Reduction Act of 1995

E. Review Under the National Environmental Policy Act of 1969

F. Review Under Executive Order 13132, “Federalism”

G. Review Under Executive Order 12988, “Civil Justice Reform”

H. Review Under the Unfunded Mandates Reform Act of 1995

I. Review Under the Treasury and General Government Appropriations Act, 1999

J. Review Under Executive Order 12630, “Governmental Actions and Interference With Constitutionally Protected Property Rights”

K. Review Under the Treasury and General Government Appropriations Act, 2001

L. Review Under Executive Order 13211, “Actions Concerning Regulations That Significantly Affect Energy Supply, Distribution, or Use”

M. Congressional Notification

VI. Approval of the Office of the Secretary

I. Background

The Power and Security Systems (“PASS”) Act, Public Law 115-78 (November 2, 2017) and the EPS Improvement Act of 2017 (Pub. L. 115-115) both amended certain aspects of the Energy Policy and Conservation Act, as amended (“EPCA”), Public Law 94-163. These recent amendments modified, among other things, the applicability of certain compliance deadlines related to external power supplies (“EPSs”) used in certain applications and aspects of the definition for external power supplies. Pursuant to the PASS Act, DOE is modifying its regulations regarding the non-application of no-load mode requirements by amending the text to explicitly state that the no-load requirements do not apply to certain external power supplies manufactured prior to the effective date of any amendment from a final rule published by DOE under 42 U.S.C. 6295(u)(3)(D)(ii). That provision requires DOE to publish a final rule by July 1, 2021, that determines whether the standards in effect should be amended. If DOE amends those standards, the amended standards would apply to products manufactured starting on July 1, 2023. With respect to the EPS Improvement Act, DOE is amending its external power supply definition by excluding certain categories of products—namely, those power supply circuits, drivers, or devices that are “designed exclusively to be connected to, and power” light-emitting diodes (“LEDs”) providing illumination, organic light-emitting diodes (“OLEDs”) providing illumination; or ceiling fans using direct current motors. See 42 U.S.C. 6291(36)(A)(ii) (as amended by the EPS Improvement Act).

This document codifies in the Code of Federal Regulations (“CFR”) these revisions to EPCA. Additionally, to ensure consistency throughout its regulatory framework, DOE is also correcting a cross-reference in the certification requirements for external power supplies that appear in the CFR and making a correction regarding the description of the standards currently in place for Class A external power supplies. See 10 CFR 429.37(b)(2)(iv) and 10 CFR 430.32(w)(1)(i). The rule corrects the internal cross-reference in 10 CFR 429.37(b)(2)(iv) to refer to § 430.32(w)(5), which relates to certification requirements involving external power supplies that are exempt from the no-load mode requirements. The Class A external power supply-related correction addresses missing text describing the maximum energy consumption limit for Class A external power supplies with a nameplate output of not more than 250 watts by including (as already provided in the statute) a separate internal header denoting the “No-Load Mode” required for these types of external power supplies and adding internal column headers for the specified “Nameplate Output” and “Maximum Consumption” level. (EPCA does not have an efficiency requirement for Class A external power supplies with a no-load nameplate output exceeding 250 watts.) Without including this statutorily-prescribed explanatory text, the current value of 0.5 watts included in the current table listing the active mode energy efficiency/energy usage requirements may be unclear. This clarifying change would comport with the active mode requirements with the requirements already found in 42 U.S.C. 6295(u)(3)(A).

II. Summary of This Action

DOE is placing the amendments described in the previous section (i.e., definitional changes, modified dates, and clarification) into 10 CFR part 430 (“Energy Conservation Program for Certain Consumer Products”). In addition, DOE is prescribing modifications to 10 CFR part 429 (“Certification, Compliance, and Enforcement for Consumer Products and Commercial and Industrial Equipment”). As a result of these provisions, power supply circuits, drivers, and devices designed exclusively to be connected to and power three key categories of products—(1) light-emitting diodes providing illumination; (2) organic light-emitting diodes providing illumination; or (3) ceiling fans using direct current motors—are excluded from the external power supply definition. Additionally, the no-load mode standards will not apply to certain external power supplies certified to DOE as being designed to be connected to a security or life safety alarm and surveillance system component until the effective date of any amended standards that DOE publishes through a final rule in July 2021 regarding whether to amend the external power supply standards in place. Finally, DOE's current table listing the active mode standards for Class A external power supplies will match the statutory text.

III. Final Action

DOE has determined, pursuant to 5 U.S.C. 553(b)(B), that prior notice and an opportunity for public comment on this final rule are unnecessary. This rule inserts into the CFR, for the benefit of the public, the revised definitional provisions and timelines related to external power supplies prescribed by the PASS Act and EPS Improvement Act, corrects an internal cross-reference in DOE's certification regulations, and makes a clarification to bring the current regulatory text into conformity with the relevant statutory provision. DOE, therefore, finds that good cause exists to waive prior notice and an opportunity to comment for this rulemaking. For the same reasons, DOE, pursuant to 5 U.S.C. 553(d)(3), finds that good cause exists for making this final rule effective upon publication in the Federal Register.

IV. Impacts

DOE has determined that the PASS Act and the EPS Improvement Act of 2017 would result in costs savings to manufacturers of EPSs, LEDs, and ceiling fans. Consistent with OMB Circular A-4 and E.O. 13771, these changes would yield annualized cost savings of approximately $2.14 and $2.62 million (2016$), discounted at 3 and 7 percent, respectively.

A. Power and Security Systems Act Cost Impacts

As described in section II, the PASS Act delays by six years a requirement that DOE determine whether to amend the standards in effect (i.e., from 2015 to 2021) and that the compliance date for any amended standards that DOE may decide to set be delayed from 2017 to 2023. Prior to the PASS Act, DOE was required to complete energy conservation standards for EPSs in 2015 that would have become effective in 2017. Due to the PASS Act, DOE is now required to complete energy conservation standards for EPSs by 2021 that will become effective in 2023. This change, assuming that DOE decided to amend the current standards, would result in cost savings for EPS manufacturers. DOE estimated anticipated conversion costs for EPS manufacturers to comply with future amended EPS energy conservation standards and calculated the cost savings of delaying those estimated conversion costs by six years (i.e., from occurring in the years leading up to 2023 as opposed to in the years leading up to 2017).

DOE published estimated conversion costs for the adopted EPS energy conservation standards and for efficiency levels higher than the adopted standards in the February 2014 Energy Conservation Standards (“ECS”) Final Rule for EPSs. 79 FR 7846, 7901-7904 (February 10, 2014). As part of the February 2014 ECS Final Rule for EPSs, DOE adopted energy conservation standards at TSL 2 and estimated that EPS manufacturers would have to spend approximately $43.4 million (2012$) in conversion costs to comply with standards set at TSL 2, or $46.0 million in 2016$. Additionally, DOE estimated conversion costs of more stringent standards. As part of that rulemaking DOE estimated that conversion costs at TSL 3, one TSL higher than the adopted standards, would be approximately $45.2 million (2012$), or $47.9 million in 2016$.

Based on these costs, DOE estimates conversion costs of future amended EPS energy conservation standards could be approximately $1.9 million in 2016$. This delay of conversion costs by six years is calculated as cost savings to EPS manufacturers. DOE then calculated the net present value of delaying approximately $1.9 million in conversion costs by six years (leading up to 2023 instead of leading up to 2017).

B. External Power Supply Improvement Act of 2017 Cost Impacts

As described in section II, the EPS Improvement Act of 2017 excludes certain devices that would otherwise be considered as EPSs from the EPS definition when they are used in LEDs providing illumination, OLEDs providing illumination, and ceiling fans using direct current motors from the EPS energy conservation standards. This change results in cost savings for LED, OLED, ceiling fan, and EPS manufacturers since these devices will no longer be required to meet the current energy conservation standards for EPSs. As a result, manufacturers of these devices will no longer need to redesign any existing EPS models that may have failed to meet the current EPS standards. Manufacturers also are not required to test and certify any products exempt from the EPS definition when introducing them into the market in the future.

DOE estimated the number of LED, OLED, and ceiling fan models that would be affected by this statutory change because manufacturers would no longer need to redesign them to accommodate the EPS standards. DOE also used data from the February 2014 ECS Final Rule for EPSs and data from DOE's Compliance Certification Database to estimate the average EPS revenue per model to be approximately $126,000 in 2016$.¹ DOE then estimated the per model capital conversion costs and per model product conversion costs to be approximately $10,600 and $9,600 respectively.² DOE then calculated the estimated percentage of EPS models that need to be converted to meet the February 2014 ECS Final Rule for EPSs for the product class based on the 18W AC-DC, Basic Voltage representative unit to be 90.2 percent.³ Lastly, DOE estimated that there would be approximately 752 LED and OLED models and 131 ceiling fans models using these EPSs.⁴ Therefore, DOE estimated that manufacturers would have had to spend approximately $13.7 million in conversion costs for EPSs used in LEDs and OLEDs ⁵ and an additional $2.4 million in conversion costs for EPSs used in ceiling fans with direct current motors.⁶

¹ DOE calculated there were 9,027 EPS models certified in DOE's Compliance Certification Database as of March 26, 2018 (https://www.regulations.doe.gov/certification-data).

The Government Regulatory Impact Model (“GRIM”) published as part of the February 2014 ECS Final Rule (https://www.regulations.gov/docket?D=EERE-2008-BT-STD-0005) estimated the annual EPS revenue for TSL 2, the adopted TSL, was approximately $1.076 billion (2012$) in the year 2018, which is approximately $1.140 billion in 2016$.

² DOE estimated that EPS manufacturers spend approximately 4.2 percent of annual revenue on capital expenditures and approximately 3.8 percent of annual revenue on research and development (taken from the published GRIM, located https://www.regulations.gov/docket?D=EERE-2008-BT-STD-0005). Therefore, DOE estimated the annual per model capital expenditures of an EPS model to be approximately $5,300 ($126,255 × 4.2%) and the annual per model research and development costs of an EPS model to be approximately $4,800 ($126,255 × 3.8%). Lastly, as part of the February 2014 ECS Final Rule for EPSs, DOE estimated that EPS manufacturers would spend an amount equal to the per model capital expenditures and per model research and development each year over the two-year EPS conversion period on capital conversion costs and product conversion costs respectively to comply with amended energy conservation standards for EPSs.

³ DOE assumed that the vast majority of LED, OLED, and ceiling fan EPSs would fall in this product class.

⁴ Estimates for the number of LED and OLED models using EPSs come from Navigant Consulting's lighting database used in support of the General Services Lamps energy conservation rulemaking (81 FR 14528). Estimates for the number of ceiling fan models using EPSs come from DOE's Compliance Certification Database for ceiling fans (https://www.regulations.doe.gov/certification-data) checked on March 26, 2018.

⁵ The number of LED and OLED models using EPSs (757) multiplied by the percentage of models that would have been required to be converted to meet the current EPS standards (90.2 percent) multiplied by the per EPS model conversion costs ($20,200, a combination of capital and product conversion costs).

⁶ The number of ceiling fan models using EPSs (131) multiplied by the percentage of models that would have been required to be converted to meet the current EPS standards (90.2 percent) multiplied by the per EPS model conversion costs ($20,200, a combination of capital and product conversion costs).

In addition to conversion costs avoided, manufacturers will not incur ongoing testing and certification costs when new models falling within the scope of the statutory definitional changes are introduced into the market. DOE used the estimated testing time per EPS model published in the August 2015 TP Final Rule for EPSs 80 FR 51424 (August 25, 2015) and an average wage rate based on data from the Bureau of Labor Statistics and U.S. Census Bureau's Annual Survey of Manufacturers ⁷ to calculate total testing costs absent the adoption of the EPS Improvement Act of 2017. Based on these estimates, DOE estimated a per model cost of approximately $154 for manufacturers to conduct testing to comply with the current EPS test procedure.

⁷ Wage rate is based on the mean hourly wage rate of Electrical and Electronics Engineering Technicians, May 2016 (https://www.bls.gov/oes/current/oes173023.htm).

Total benefits ratio is based on data from the U.S. Census Bureau's 2016 Annual Survey of Manufacturers, using Annual Payroll and Total Fringe Benefits values specific to NAICS code 335999 (All Other Miscellaneous Electrical Equipment and Component Manufacturing). https://factfinder.census.gov/faces/nav/jsf/pages/searchresults.xhtml?refresh=t.

DOE also estimated the production design cycle of EPSs used in LEDs and OLEDs and of EPSs used in ceiling fans. DOE used these estimates and the per model testing costs to calculate the average annual testing cost of EPSs used in LEDs and OLEDs, estimated at approximately $58,000, and the average annual testing cost of EPSs used in ceiling fans with direct current motors, estimated at approximately $5,700, absent the adoption of the EPS Improvement Act of 2017.

In addition to testing costs avoided, DOE calculated annual certification costs avoided by not having to certify the energy efficiency performance of those devices that are no longer considered as EPSs when used in LEDs, OLEDs, and ceiling fans with direct current motors using the DOE's EPS test procedure. DOE estimated the number of LED, OLED, and ceiling fan manufacturers producing products using these now excluded devices. DOE also estimated the annual certification burden of these manufacturers to introduce new models every year. DOE estimated annual certification costs of approximately $700,000 for these devices when used in LEDs or OLEDs, and annual certification costs of approximately $945,000 for these devices when used in ceiling fans with direct current motors absent the adoption of the EPS Improvement Act of 2017.

V. Procedural Requirements

A. Review Under Executive Order 12866, “Regulatory Planning and Review”

This final rule is a “significant regulatory action” under the criteria set out in section 3(f) of Executive Order 12866, “Regulatory Planning and Review.” 58 FR 51735 (October 4, 1993). Accordingly, this action was subject to review by the Office of Information and Regulatory Affairs (“OIRA”) in the Office of Management and Budget (“OMB”).

B. Review Under Executive Orders 13771 and 13777

On January 30, 2017, the President issued Executive Order 13771, “Reducing Regulation and Controlling Regulatory Costs.” That Order stated the policy of the executive branch is to be prudent and financially responsible in the expenditure of funds, from both public and private sources. The Order stated it is essential to manage the costs associated with the governmental imposition of private expenditures required to comply with Federal regulations. This final rule is expected to be an E.O. 13771 deregulatory action.

Additionally, on February 24, 2017, the President issued Executive Order 13777, “Enforcing the Regulatory Reform Agenda.” The Order required the head of each agency designate an agency official as its Regulatory Reform Officer (RRO). Each RRO oversees the implementation of regulatory reform initiatives and policies to ensure that agencies effectively carry out regulatory reforms, consistent with applicable law. Further, E.O. 13777 requires the establishment of a regulatory task force at each agency. The regulatory task force is required to make recommendations to the agency head regarding the repeal, replacement, or modification of existing regulations, consistent with applicable law. At a minimum, each regulatory reform task force must attempt to identify regulations that:

(i) Eliminate jobs, or inhibit job creation;

(ii) Are outdated, unnecessary, or ineffective;

(iii) Impose costs that exceed benefits;

(iv) Create a serious inconsistency or otherwise interfere with regulatory reform initiatives and policies;

(v) Are inconsistent with the requirements of Information Quality Act, or the guidance issued pursuant to that Act, in particular those regulations that rely in whole or in part on data, information, or methods that are not publicly available or that are insufficiently transparent to meet the standard for reproducibility; or

(vi) Derive from or implement Executive Orders or other Presidential directives that have been subsequently rescinded or substantially modified.

The PASS Act and the EPS Improvement Act of 2017 delay DOE consideration of standards and exclude certain power supplies from the regulations for EPSs. This rule incorporates the provisions of these acts into the CFR. The resulting cost savings are due to ongoing avoided testing costs and certification costs for excluded power supplies; the interest on upfront conversion costs delayed by the PASS Act from 2017 to 2023; and one-time avoided conversion costs for excluded power supplies. Excluded power supplies include EPSs used in LEDs, OLEDs, and ceiling fans with direct current motors.

Table V.1—Annualized Cost Savings by Source and Analytical Time Horizon
Cost savings | Source | Time horizon | Cost savings (millions 2016$, discounted in perpetuity at 7%)
Avoided Testing Costs | EPS Improvement Act | Perpetual | ($0.06)
Avoided Certification Costs | EPS Improvement Act | Perpetual | (1.54)
Delayed Conversion Costs | PASS Act | 2017-2022 | (0.04)
Excluded EPS Conversion Costs | EPS Improvement Act | One-time (2018) | (0.98)

DOE concludes that this final rule is consistent with the directives set forth in these executive orders. Assuming a 7 percent discount rate, the final rule yields annualized cost savings of approximately $2.62 million (2016$). Therefore, this final rule is an Executive Order 13771 deregulatory action.

Table V.2—Summary of Cost Savings for the PASS Act and the EPS Improvement Act of 2017
Category | Present value (million 2016$) | Discount rate (percent)
PASS Act Cost Savings | (0.6) | 7
EPS Improvement Act of 2017 Cost Savings | (36.9) | 7
Total Net Cost Impact | (37.5) | 7

Table V.3—Summary of Annualized Cost Impacts for the PASS Act and the EPS Improvement Act of 2017
Category | Annual value (million 2016$) | Discount rate (percent)
PASS Act Annualized Cost Savings | (0.04) | 7
EPS Improvement Act of 2017 Annualized Cost Savings | (2.58) | 7
Total Net Annualized Cost Impact | (2.62) | 7

C. Review Under the Regulatory Flexibility Act

The Regulatory Flexibility Act (5 U.S.C. 601 et seq.) requires preparation of an initial regulatory flexibility analysis for any rule that by law must be proposed for public comment, unless the agency certifies that the rule, if promulgated, will not have a significant economic impact on a substantial number of small entities. As required by Executive Order 13272, “Proper Consideration of Small Entities in Agency Rulemaking,” 67 FR 53461 (August 16, 2002), DOE published procedures and policies on February 19, 2003, to ensure that the potential impacts of its rules on small entities are properly considered during the rulemaking process. 68 FR 7990. The Department has made its procedures and policies available on the Office of General Counsel's website: http://energy.gov/gc/office-general-counsel. This rule revises the Code of Federal Regulations to incorporate, without substantive change, statutorily-imposed definitional changes affecting coverage under current energy conservation standards, applicable timelines related to certain rulemaking requirements, and related provisions prescribed by Public Law 115-78 and Public Law 115-115, along with a separate correction to reflect the current language found in the statute. Because this is a technical amendment for which a general notice of proposed rulemaking is not required, the Regulatory Flexibility Act does not apply to this rulemaking.

D. Review Under the Paperwork Reduction Act of 1995

This rulemaking imposes no new information or record keeping requirements. Accordingly, Office of Management and Budget clearance is not required under the Paperwork Reduction Act. (44 U.S.C. 3501 et seq.)

E. Review Under the National Environmental Policy Act of 1969

In this rule, DOE is incorporating requirements prescribed by the PASS Act and EPS Improvement Act and preexisting statutory language. DOE has determined that this rule falls into a class of actions that are categorically excluded from review under the National Environmental Policy Act of 1969 (42 U.S.C. 4321 et seq.) and DOE's implementing regulations at 10 CFR part 1021. Specifically, this rule is strictly procedural and, therefore, would not result in any environmental impacts. Thus, this rulemaking is covered by Categorical Exclusion A6 under 10 CFR part 1021, subpart D, which applies to procedural rulemakings. Accordingly, neither an environmental assessment nor an environmental impact statement is required.

F. Review Under Executive Order 13132, “Federalism”

Executive Order 13132, “Federalism,” 64 FR 43255 (August 4, 1999), imposes certain requirements on agencies formulating and implementing policies or regulations that preempt State law or that have federalism implications. The Executive Order requires agencies to examine the constitutional and statutory authority supporting any action that would limit the policymaking discretion of the States and to carefully assess the necessity for such actions. The Executive Order also requires agencies to have an accountable process to ensure meaningful and timely input by State and local officials in the development of regulatory policies that have federalism implications. On March 14, 2000, DOE published a statement of policy describing the intergovernmental consultation process it will follow in the development of such regulations. 65 FR 13735. EPCA governs and prescribes Federal preemption of State regulations as to energy conservation for the products that are the subject of this final rule. States can petition DOE for exemption from such preemption to the extent, and based on criteria, set forth in EPCA. (42 U.S.C. 6297) No further action is required by Executive Order 13132.

G. Review Under Executive Order 12988, “Civil Justice Reform”

With respect to the review of existing regulations and the promulgation of new regulations, section 3(a) of Executive Order 12988, “Civil Justice Reform,” 61 FR 4729 (February 7, 1996), imposes on Federal agencies the general duty to adhere to the following requirements: (1) Eliminate drafting errors and ambiguity; (2) write regulations to minimize litigation; and (3) provide a clear legal standard for affected conduct rather than a general standard and promote simplification and burden reduction. Section 3(b) of Executive Order 12988 specifically requires that Executive agencies make every reasonable effort to ensure that the regulation: (1) Clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in section 3(a) and section 3(b) to determine whether they are met or it is unreasonable to meet one or more of them. DOE has completed the required review and determined that, to the extent permitted by law, this final rule meets the relevant standards of Executive Order 12988.

H. Review Under the Unfunded Mandates Reform Act of 1995

Title II of the Unfunded Mandates Reform Act of 1995 (UMRA) requires each Federal agency to assess the effects of Federal regulatory actions on State, local, and Tribal governments and the private sector. (Pub. L. 104-4, sec. 201 (codified at 2 U.S.C. 1531). For a proposed regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a proposed “significant intergovernmental mandate,” and requires an agency plan for giving notice and opportunity for timely input to potentially affected small governments before establishing any requirements that might significantly or uniquely affect small governments. On March 18, 1997, DOE published a statement of policy on its process for intergovernmental consultation under UMRA (62 FR 12820) (also available at http://www.gc.doe.gov). This final rule contains neither an intergovernmental mandate nor a mandate that may result in the expenditure of $100 million or more in any year, so these requirements under the Unfunded Mandates Reform Act do not apply.

I. Review Under the Treasury and General Government Appropriations Act, 1999

Section 654 of the Treasury and General Government Appropriations Act, 1999 (Pub. L. 105-277) requires Federal agencies to issue a Family Policymaking Assessment for any rule that may affect family well-being. This final rule would not have any impact on the autonomy or integrity of the family as an institution. Accordingly, DOE has concluded that it is not necessary to prepare a Family Policymaking Assessment.

J. Review Under Executive Order 12630, “Governmental Actions and Interference With Constitutionally Protected Property Rights”

The Department has determined, under Executive Order 12630, “Governmental Actions and Interference with Constitutionally Protected Property Rights,” 53 FR 8859 (March 18, 1988), that this rule would not result in any takings which might require compensation under the Fifth Amendment to the United States Constitution.

K. Review Under the Treasury and General Government Appropriations Act, 2001

Section 515 of the Treasury and General Government Appropriations Act, 2001 (44 U.S.C. 3516, note) provides for agencies to review most disseminations of information to the public under guidelines established by each agency pursuant to general guidelines issued by OMB. OMB's guidelines were published at 67 FR 8452 (February 22, 2002), and DOE's guidelines were published at 67 FR 62446 (October 7, 2002). DOE has reviewed this final rule under the OMB and DOE guidelines and has concluded that it is consistent with applicable policies in those guidelines.

L. Review Under Executive Order 13211, “Actions Concerning Regulations That Significantly Affect Energy Supply, Distribution, or Use”

Executive Order 13211, “Actions Concerning Regulations That Significantly Affect Energy Supply, Distribution, or Use,” 66 FR 28355 (May 22, 2001), requires Federal agencies to prepare and submit to the Office of Information and Regulatory Affairs (OIRA), Office of Management and Budget, a Statement of Energy Effects for any proposed significant energy action. A “significant energy action” is defined as any action by an agency that promulgates or is expected to lead to promulgation of a final rule, and that: (1) Is a significant regulatory action under Executive Order 12866, or any successor order; and (2) is likely to have a significant adverse effect on the supply, distribution, or use of energy, or (3) is designated by the Administrator of OIRA as a significant energy action. For any proposed significant energy action, the agency must give a detailed statement of any adverse effects on energy supply, distribution, or use should the proposal be implemented, and of reasonable alternatives to the action and their expected benefits on energy supply, distribution, and use. This final rule, which incorporates recently-enacted statutory provisions into DOE's regulations and makes specific corrections in conformity with the current statutory text, would not have a significant adverse effect on the supply, distribution, or use of energy and, therefore, is not a significant energy action. Accordingly, DOE has not prepared a Statement of Energy Effects.

M. Congressional Notification

As required by 5 U.S.C. 801, DOE will report to Congress on the promulgation of this rule prior to its effective date. The report will state that it has been determined that the rule is not a “major rule” as defined by 5 U.S.C. 804(2).

VI. Approval of the Office of the Secretary

The Secretary of Energy has approved publication of this final rule.

List of Subjects

10 CFR Part 429

Administrative practice and procedure, Confidential business information, Energy conservation, Household appliances, and Reporting and recordkeeping requirements.

10 CFR Part 430

Administrative practice and procedure, Confidential business information, Energy conservation, Household appliances, Incorporation by reference, and Small businesses.

Signed in Washington, DC, on January 18, 2019.
Daniel R. Simmons,
Assistant Secretary, Energy Efficiency and Renewable Energy.

For the reasons set forth in the preamble, DOE hereby amends chapter II, subchapter D, of title 10 of the Code of Federal Regulations as set forth below:

PART 429—CERTIFICATION, COMPLIANCE, AND ENFORCEMENT FOR CONSUMER PRODUCTS AND COMMERCIAL AND INDUSTRIAL EQUIPMENT

1. The authority citation for part 429 continues to read as follows:

Authority: 42 U.S.C. 6291-6317; 28 U.S.C. 2461 note.

2. Section 429.37 is amended by revising paragraph (b)(2)(iv) to read as follows:

§ 429.37 External power supplies.

* * * * *

(b) * * *

(2) * * *

(iv) External power supplies that are exempt from no-load mode requirements under § 430.32(w)(5) of this chapter: A statement that the product is designed to be connected to a security or life safety alarm or surveillance system component, the average active-mode efficiency as a percentage (%), the nameplate output power in watts (W), and if missing from the nameplate, the certification report must also include the output current in amperes (A) of the basic model or the output current in amperes (A) of the highest- and lowest-voltage models within the external power supply design family.

* * * * *

PART 430—ENERGY CONSERVATION PROGRAM FOR CONSUMER PRODUCTS

3. The authority citation for part 430 continues to read as follows:

Authority: 42 U.S.C. 6291-6309; 28 U.S.C. 2461 note.

4. Section 430.2 is amended by revising the definition for “External power supply” to read as follows:

§ 430.2 Definitions.

* * * * *

External power supply means an external power supply circuit that is used to convert household electric current into DC current or lower-voltage AC current to operate a consumer product. However, the term does not include a power supply circuit, driver, or device that is designed exclusively to be connected to, and power—

(1) Light-emitting diodes providing illumination;

(2) Organic light-emitting diodes providing illumination; or

(3) Ceiling fans using direct current motors.

* * * * *

5. Section 430.32 is amended by revising paragraph (w)(1)(i) and paragraph (w)(5) introductory text to read as follows:

§ 430.32 Energy and water conservation standards and their effective dates.

* * * * *

(w) External power supplies. (1)(i) Except as provided in paragraphs (w)(2) and (5) of this section, all class A external power supplies manufactured on or after July 1, 2008, shall meet the following standards:

Active mode: Nameplate output | Active mode: Required efficiency (decimal equivalent of a percentage)
Less than 1 watt | 0.5 times the Nameplate output.
From 1 watt to not more than 51 watts | The sum of 0.09 times the Natural Logarithm of the Nameplate Output and 0.5.
Greater than 51 watts | 0.85.
No-load mode
Nameplate output | Maximum consumption
Not more than 250 watts | 0.5 watts.

* * * * *

(5) Non-application of no-load mode requirements. The no-load mode energy efficiency standards established in paragraph (w)(1) of this section shall not apply to an external power supply that—

* * * * *

[FR Doc. 2019-00228 Filed 1-28-19; 8:45 am]

BILLING CODE 6450-01-P